DEPARTMENT OF TRANSPORTATION

Maritime Administration

[Docket No. MARAD-2018-0083]

Request for Comments on the Renewal of a Previously Approved Information Collection: Application for Construction Reserve Fund and Annual Statements (CRF)

AGENCY: Maritime Administration

ACTION: Notice and request for comments.

SUMMARY: In compliance with the Paperwork Reduction Act of 1995, this notice announces that the Information Collection Request (ICR) abstracted below is being forwarded to the Office of Management and Budget (OMB) for review and comments. The information to be collected is required in order for MARAD to determine whether the applicant is qualified for the benefits of the CRF program. A Federal Register Notice with a 60-day comment period soliciting comments on the following information collection was published on February 12, 2018 (Federal Register 6084, Vol. 83, No. 29).

DATES: Comments must be submitted on or before June 22, 2018.

ADDRESSES: Send comments regarding the burden estimate, including suggestions for reducing the burden, to the Office of Management and Budget, Attention: Desk Officer for the Office of the Secretary of Transportation, 725 17th Street NW, Washington, DC 20503.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Daniel Ladd, 202-366-1859, Office of Financial Approvals, Maritime Administration, U.S. Department of Transportation, 1200 New Jersey Avenue SE, Washington, DC 20590.

SUPPLEMENTARY INFORMATION:

Title: Application for Construction Reserve Fund and Annual Statements (CRF).

OMB Control Number: 2133-0032.

Type of Request: Renewal of a Previously Approved Information Collection.

Abstract: The Construction Reserve Fund (CRF), authorized by 46 U.S.C. Chapter 533 (the Act), is a financial assistance program which provides tax deferral benefits to U.S.-flag operators. Eligible parties can defer the gain attributable to the sale or loss of a vessel, provided the proceeds are used to expand or modernize the U.S. merchant fleet. The primary purpose of the CRF is to promote the construction, reconstruction, reconditioning, or acquisition of merchant vessels which are necessary for national defense and to the development of U.S. commerce.

Respondents: Owners or operators of vessels in the domestic or foreign commerce.

Affected Public: Owners or operators of vessels in the domestic or foreign commerce.

Estimated Number of Respondents: 17.

Estimated Number of Responses: 17.

Estimated Hours per Response: 9.

Annual Estimated Total Annual Burden Hours: 153.

Frequency of Response: Annually.

(Authority: The Paperwork Reduction Act of 1995; 44 U.S.C. Chapter 35, as amended; and 49 CFR 1.93.)

* * * * *

By Order of the Maritime Administrator.
Dated: May 18, 2018.
T. Mitchell Hudson, Jr.,
Secretary, Maritime Administration.

[FR Doc. 2018-11069 Filed 5-22-18; 8:45 am]

BILLING CODE 4910-81-P